DEPARTMENT OF ENERGY

Federal Energy Regulatory Commission

Combined Notice of Filings

Take notice that the Commission has received the following Natural Gas Pipeline Rate and Refund Report filings:

Filings in Existing Proceedings

Docket Numbers: PR23-6-001.

Applicants: Questar Gas Company.

Description: § 284.123 Rate Filing: Amendment to 1 to be effective 12/1/2022.

Filed Date: 11/10/22.

Accession Number: 20221110-5146.

Comment Date: 5 p.m. ET 11/28/22.

Docket Numbers: RP20-957-001.

Applicants: Golden Pass LNG Terminal LLC.

Description: Petition to Amend Waiver of the Buy-Sell Prohibition of Golden Pass LNG Terminal LLC under RP20-957.

Filed Date: 11/14/22.

Accession Number: 20221114-5115.

Comment Date: 5 p.m. ET 11/28/22.

Docket Numbers: RP21-1093-001.

Applicants: Enable Gas Transmission, LLC.

Description: Compliance filing: Activity Report for First Year of Firm PALS Service to be effective N/A.

Filed Date: 11/14/22.

Accession Number: 20221114-5106.

Comment Date: 5 p.m. ET 11/28/22.

Docket Numbers: RP22-320-001.

Applicants: ANR Pipeline Company.

Description: Report Filing: Supplement to GCXP Notice of Commencement to be effective N/A.

Filed Date: 11/14/22.

Accession Number: 20221114-5189.

Comment Date: 5 p.m. ET 11/28/22.

Any person desiring to protest in any the above proceedings must file in accordance with Rule 211 of the Commission's Regulations (18 CFR 385.211) on or before 5:00 p.m. Eastern time on the specified comment date.

Filings Instituting Proceedings

Docket Numbers: RP23-182-000.

Applicants: Caledonia Energy Partners, L.L.C.

Description: § 4(d) Rate Filing: Caledonia Energy Partners, LLC Housekeeping Filing to be effective 12/10/2022.

Filed Date: 11/10/22.

Accession Number: 20221110-5196.

Comment Date: 5 p.m. ET 11/22/22.

Docket Numbers: RP23-183-000.

Applicants: Algonquin Gas Transmission, LLC.

Description: § 4(d) Rate Filing: Negotiated Rates—Bug Co to Atlantic 810133 eff 11-11-2022 to be effective 11/11/2022.

Filed Date: 11/14/22.

Accession Number: 20221114-5000.

Comment Date: 5 p.m. ET 11/28/22.

Docket Numbers: RP23-184-000.

Applicants: Rockies Express Pipeline LLC.

Description: § 4(d) Rate Filing: REX 2022-11-11 Negotiated Rate Agreement Amendment to be effective 11/12/2022.

Filed Date: 11/14/22.

Accession Number: 20221114-5001.

Comment Date: 5 p.m. ET 11/28/22.

Docket Numbers: RP23-185-000.

Applicants: Northwest Pipeline LLC.

Description: § 4(d) Rate Filing: 2022 Housekeeping Filing to be effective 12/12/2022.

Filed Date: 11/14/22.

Accession Number: 20221114-5003.

Comment Date: 5 p.m. ET 11/28/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2022.
Debbie-Anne A. Reese,
Deputy Secretary.

[FR Doc. 2022-25158 Filed 11-17-22; 8:45 am]

BILLING CODE 6717-01-P